DEPARTMENT OF STATE

[Public Notice 11198]

U.S. Advisory Commission on Public Diplomacy; Notice of Meeting

The U.S. Advisory Commission on Public Diplomacy (ACPD) will hold a virtual public meeting from 12:00 p.m. until 1:30 p.m., Wednesday, September 30, 2020. The meeting will focus on public diplomacy's role in countering state-sponsored disinformation, based on the forthcoming ACPD special report, “Public Diplomacy and the New “Old” War: Countering State-Sponsored Disinformation.” A panel of experts on the current complex information environment will discuss opportunities and challenges for PD practitioners in responding to state-sponsored malign influence operations—U.S. Ambassador (ret.) Bruce Wharton; James Pamment, Nonresident Scholar at the Carnegie Endowment for International Peace; and Graham Brookie, Director and Managing Editor of the Atlantic Council's Digital Forensic Research Lab.

This meeting is open to the public, including the media and members and staff of governmental and non-governmental organizations. To obtain the web conference link and password and to request reasonable accommodation, please email ACPD Program Assistant Kristy Zamary at ZamaryKK@state.gov. Please send any request for reasonable accommodation not later than September 23, 2020. Requests received after that date will be considered, but might not be possible to fulfill. Attendees should plan to enter the web conference waiting room by 11:50 a.m. to allow for a prompt start. Since 1948, the ACPD has been charged with appraising activities intended to understand, inform, and influence foreign publics and to increase the understanding of, and support for, these same activities. The ACPD conducts research that provides honest assessments of public diplomacy efforts, and disseminates findings through reports, white papers, and other publications. It also holds public symposiums that generate informed discussions on public diplomacy issues and events. The Commission reports to the President, Secretary of State, and Congress. The Office of the Under Secretary of State for Public Diplomacy and Public Affairs supports it.

For more information on the U.S. Advisory Commission on Public Diplomacy, please contact the Commission's Executive Director, Vivian S. Walker, at WalkerVS@state.gov or Senior Advisor, Shawn Baxter, at BaxterGS@state.gov, or please visit https://www.state.gov/bureaus-offices/under-secretary-for-public-diplomacy-and-public-affairs/united-states-advisory-commission-on-public-diplomacy/.

Vivian S. Walker,
Executive Director, U.S. Advisory Commission on Public Diplomacy, Department of State.

[FR Doc. 2020-20220 Filed 9-11-20; 8:45 am]

BILLING CODE 4710-45-P